DEPARTMENT OF STATE

[Public Notice 8865]

Determination of the Secretary of State Relating to Iran Sanctions

This notice is to inform the public that the Secretary of State determined on August 29, 2014, pursuant to section 1245(d)(4)(D) of the National Defense Authorization Act for Fiscal Year 2012 (NDAA), that each of the following EU countries: Belgium, Czech Republic, France, Germany, Greece, Italy, Netherlands, Poland, Spain, and the United Kingdom (hereinafter “EU10”) have maintained their crude oil purchases from Iran at zero over the preceding 180-day period. The Secretary of State last made exception determinations under 1245(d)(4)(D) of the NDAA regarding these purchasers on March 4th, 2014.

Dated: September 5, 2014.
Mary Burce Warlick,
Principal Deputy Assistant Secretary, Bureau of Energy Resources, U.S. Department of State.

[FR Doc. 2014-21683 Filed 9-10-14; 8:45 am]

BILLING CODE 4710-09-P